ENVIRONMENTAL PROTECTION AGENCY

40 CFR Part 3

[EPA-HQ-OEI-2003-0001; FRL-8980-7]

RIN 2025-AA26

Technical Amendment of Cross-Media Electronic Reporting Rule

AGENCY: Environmental Protection Agency (EPA).

ACTION: Final rule.

SUMMARY: EPA is amending the Final Cross-Media Electronic Reporting Rule (CROMERR) to exclude from the regulation all documents and information submitted electronically to EPA by applicants for, and recipients of grants, cooperative agreements and other forms of financial assistance pursuant to EPA financial assistance regulations.

DATES: This final rule is effective on November 17, 2009.

ADDRESSES: EPA has established a docket for this action under No. EPA-HQ-OEI-2003-0001. All documents in the docket are listed on the http://www.regulations.gov Web site. Although listed in the index, some information is not publicly available, e.g., CBI or other information whose disclosure is restricted by statute. Certain other material, such as copyrighted material, is not placed on the Internet and will be publicly available only in hard copy form. Publicly available docket materials are available either electronically through http://www.regulations.gov or in hard copy at the CROMERR Docket, EPA/DC, EPA West, Room 3334, 1301 Constitution Avenue, NW., Washington, DC. The Public Reading Room is open from 8:30 a.m. to 4:30 p.m., Monday through Friday, excluding legal holidays. The telephone number for the Public Reading Room is (202) 566-1744, and the telephone number for the CROMERR Docket is (202) 566-1752.

FOR FURTHER INFORMATION CONTACT: Evi Huffer, Office of Environmental Information (2823T), Environmental Protection Agency, 1200 Pennsylvania Avenue, NW., Washington, DC 20460; (202) 566-1697; huffer.evi@epa.gov, or David Schwarz, Office of Environmental Information (2823T), Environmental Protection Agency, 1200 Pennsylvania Avenue, NW., Washington, DC 20460; (202) 566-1704; schwarz.david@epa.gov.

SUPPLEMENTARY INFORMATION:

I. Does this action apply to me?

This action will affect governments, non-profit organizations, international organizations, commercial firms, individuals and other entities who are eligible for EPA financial assistance (recipients) that submit information electronically to EPA for financial assistance awards pursuant to Title 40 of the Code of Federal Regulations (CFR) Subchapter B—Grants and Other Federal Assistance.

Category | Examples of affected entities
Governments | Foreign governments, States, tribes or territories, including intertribal consortia and Tribal education agencies. County, municipality, city, town, township, local public authority, school district, special district, intrastate district, council of governments, any other regional or interstate government entity, or any agency or instrumentality of a local government. For purposes of this rulemaking, the term “state” includes the District of Columbia and the United States territories, as specified in the applicable statutes. That is, the term “state” includes the District of Columbia, the Commonwealth of Puerto Rico, the Virgin Islands, Guam, American Samoa, the Commonwealth of Northern Marina Islands and the Trust Territory of the Pacific Islands, depending on the statute.
International organizations | Agencies of the United Nations, the European Union, the World Health Organization and similar international bodies.
Non-profit organizations | Environmental organizations, trade associations, associations of government officials, institutions of higher education, public and private hospitals, and other quasi-public and other private non-profit organizations such as, but not limited to, community action agencies, research institutes, educational associations, and private health centers.

This table is not intended to be exhaustive, but rather provides a guide for readers regarding entities likely to be affected by this action. If you have questions regarding the applicability of this action to a particular entity, consult the person listed in the preceding FOR FURTHER INFORMATION CONTACT section.

II. What does this rule do?

This rule extends the current Cross-Media Electronic Reporting Regulation (CROMERR) applicability exemption for financial assistance regulations (grants) to include all financial assistance regulations under Title 40, providing regulatory relief to applicants for, and recipients of, EPA financial assistance who submit information electronically to EPA pursuant to other parts of Title 40 of the CFR. Specifically, this final rule amends 40 CFR 3.1(b) by adding a new paragraph (3) which excludes such documents and data from Part 3.

III. Why is EPA taking this action?

EPA published the CROMERR final rulemaking on October 13, 2005 (70 FR 59853). In publishing the final rule, EPA did not intend for the new part 3 requirements to apply to the Agency's financial assistance regulations. This is evidenced by the statement in the final rule preamble that the “new part 3 does not address contracts, grants or financial management regulations contained in Title 48 of the CFR.” (70 FR 59853, October 13, 2005). EPA recently discovered, however, that CROMERR does apply to grants found in parts of Title 40 of the CFR. Augmenting this discrepancy, states, tribes, and local governments submitting applications, reports, or data to satisfy grant requirements under Title 40 are currently exempt under CROMERR section 3.1(c) when the environmental grant programs are linked to EPA-authorized programs. Today's final rule excludes all documents and data submitted electronically to EPA by financial assistance applicants and recipients pursuant to financial assistance requirements under Title 40 of the CFR from CROMERR.

IV. Statutory and Executive Order Reviews

A. Executive Order 12866: Regulatory Planning and Review

This action is not a “significant regulatory action” under the terms of Executive Order (EO) 12866 (58 FR 51735, October 4, 1993) and is, therefore, not subject to review under the EO.

B. Paperwork Reduction Act

This action does not impose any information collection burden. However, the Office of Management and Budget (OMB) has previously approved the information collection requirements contained in the existing regulations (40 CFR part 3) under the provisions of the Paperwork Reduction Act, 44 U.S.C. 3501 et seq. and has assigned OMB control number 2025-0003. The OMB control numbers for EPA's regulations in 40 CFR are listed in 40 CFR part 9.

C. Regulatory Flexibility Act

Today's final rule is not subject to the Regulatory Flexibility Act (RFA), which generally requires an agency to prepare a regulatory flexibility analysis for any rule that will have a significant economic impact on a substantial number of small entities. The RFA applies only to rules subject to notice and comment rulemaking requirements under the Administrative Procedure Act (APA) or any other statute. This rule is not subject to notice and comment requirements under the APA or any other statute because this rule pertains to grants which the section 553 of the APA specifically exempts from notice and comment rulemaking requirements (5 USC 553(a)(2)). Thus, EPA is not required to promulgate a proposed rule or take comment on the rule.

D. Unfunded Mandates Reform Act

This action contains no Federal mandates under the provisions of Title II of the Unfunded Mandates Reform Act of 1995 (UMRA), 2 U.S.C. 1531-1538 for state, tribal, or local governments or the private sector. The action imposes no additional requirements or enforceable duty on any State, tribal, or local governments or the private sector. Therefore, this action is not subject to the requirements of sections 202 or 205 of the UMRA. This rule relieves a regulatory burden to environmental grant applicants and grantees submitting electronic documents and information to EPA.

This action is also not subject to the requirements of section 203 of UMRA because it contains no regulatory requirements that might significantly or uniquely affect small governments.

E. Executive Order 13132: Federalism

This action does not have federalism implications. It will not have substantial direct effects on the states, on the relationship between the national government and the states, or on the distribution of power and responsibilities among the various levels of government, as specified in Executive Order 13132. This action provides regulatory relief to grant applicants and grantees and imposes no additional requirements. Thus, Executive Order 13132 does not apply to this rule.

F. Executive Order 13175: Consultation and Coordination With Indian Tribal Governments

This action does not have tribal implications, as specified in Executive Order 13175 (65 FR 67249, November 9, 2000). It will neither impose substantial direct compliance costs on tribal governments, nor preempt Tribal law. This action provides regulatory relief to tribal, state, local government, and non-profit organization grant applicants and grantees. Thus, Executive Order 13175 does not apply to this action.

G. Executive Order 13045: Protection of Children's Health From Environmental Health Risks and Safety Risks

EPA interprets EO 13045 (62 FR 19885, April 23, 1997) as applying only to those regulatory actions that concern health or safety risks, such that the analysis required under section 5-501 of the EO has the potential to influence the regulation. This action is not subject to EO 13045 because it does not establish an environmental standard intended to mitigate health or safety risks.

H. Executive Order 13211: Actions Concerning Regulations That Significantly Affect Energy Supply, Distribution, or Use

This action is not subject to Executive Order 13211 (66 FR 28355, May 22, 2001), because it is not a significant regulatory action under Executive Order 12866.

I. National Technology Transfer and Advancement Act

Section 12(d) of the National Technology Transfer and Advancement Act of 1995 (“NTTAA”), Public Law 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

This action does not involve technical standards. Therefore, EPA did not consider the use of any voluntary consensus standards.

J. Executive Order 12898: Federal Actions To Address Environmental Justice in Minority Populations and Low-Income Populations

Executive Order (EO) 12898 (59 FR 7629, Feb. 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA lacks the discretionary authority to address environmental justice in this final rulemaking because it does not affect the level of protection provided to human health or the environment. This final rule exempts grant applicants and grantees submitting documents and information electronically to EPA pursuant to environmental grant regulations under 40 CFR from CROMERR.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2) and provides regulatory relief to state, tribe, local government, and non-profit organization environmental grant applicants and grantees. This rule will be effective on November 17, 2009.

List of Subjects in 40 CFR Part 3

Environmental protection, Conflict of interests, Electronic records, Electronic reporting requirements, Electronic reports, Intergovernmental relations.

Dated: November 5, 2009.
Lisa P. Jackson,
Administrator.

Therefore, title 40 chapter I of the Code of Federal Regulations is amended as follows:

PART 3—[AMENDED]

1. The authority citation for part 3 continues to read as follows:

Authority: 7 U.S.C. 136 to 136y; 15 U.S.C. 2601 to 2692; 33 U.S.C. 1251 to 1387; 33 U.S.C. 1401 to 1445; 33 U.S.C. 2701 to 2761; 42 U.S.C. 300f to 300j-26; 42 U.S.C. 4852d; 42 U.S.C. 6901-6992k; 42 U.S.C. 7401 to 7671q; 42 U.S.C. 9601 to 9675; 42 U.S.C. 11001 to 11050; 15 U.S.C. 7001; 44 U.S.C. 3504 to 3506.

Subpart A—General Provisions

2. Section 3.1 is amended by revising paragraphs (b)(1) and (b)(2) and by adding paragraph (b)(3) to read as follows:

§ 3.1 Who does this part apply to?

* * * * *

(b) * * *

(1) Documents submitted via facsimile in satisfaction of reporting requirements as permitted under other parts of Title 40 or under authorized programs;

(2) Electronic documents submitted via magnetic or optical media such as diskette, compact disc, digital video disc, or tape in satisfaction of reporting requirements, as permitted under other parts of Title 40 or under authorized programs; or

(3) Documents and information submitted under grants, cooperative agreements, or financial assistant regulations contained in Title 40.

* * * * *

[FR Doc. E9-27304 Filed 11-16-09; 8:45 am]

BILLING CODE 6560-50-P